DEPARTMENT OF ENERGY

Federal Energy Regulatory Commission

[Docket No. AD06-2-000]

Assessment of Demand Response Resources

November 3, 2005.

AGENCY: Federal Energy Regulatory Commission, DOE.

ACTION: Notice of Proposed Voluntary Survey and Technical Conference.

SUMMARY: Pursuant to the Energy Policy Act of 2005 (EPAct 2005) section 1252(e)(3),¹ the Federal Energy Regulatory Commission (Commission) is preparing a report, by appropriate region, that assesses demand response resources, including those available from all consumer classes. A voluntary survey and technical conference are proposed to obtain information that will assist in preparing and publishing this report.

¹ Energy Policy Act of 2005, Pub. L. 109-58, § 1252(e)(3), 119 Stat. 594, (2005) (EPAct section 1252(e)(3)).

DATES: (1) Comments on the proposed survey questions should be filed December 5, 2005.

(2) Requests to participate in the technical conference are due December 5, 2005.

(3) Comments on the proposed technical conference topics are due December 19, 2005.

ADDRESSES: Comments may be filed electronically via the eFiling link on the Commission's Web site at http://www.ferc.gov. Commenters unable to file comments electronically must send an original and 14 copies of their comments to: Federal Energy Regulatory Commission, Office of the Secretary, 888 First Street NE., Washington, DC 20426. Please refer to the Comment Procedures section of the preamble for additional information on how to file comments.

FOR FURTHER INFORMATION CONTACT: David Kathan (Technical Information), Office of Markets, Tariffs and Rates, Federal Energy Regulatory Commission, 888 First Street, NE., Washington, DC 20426, (202) 502-6404, David.Kathan@ferc.gov.

Aileen Roder (Legal Information), Office of the General Counsel, Federal Energy Regulatory Commission, 888 First Street, NE., Washington, DC 20426, (202) 502-6022, Aileen.Roder@ferc.gov.

SUPPLEMENTARY INFORMATION: 1. Take notice that a survey on the saturation and penetration of advanced meters is being proposed and that a technical conference, with comments, on issues raised by the Energy Policy Act of 2005 (EPAct 2005) section 1252(e)(3) ² will be held. Comments on the survey are due by December 5, 2005. The date, location, and agenda of the conference will be announced in a subsequent notice. Those wishing to participate in the technical conference should notify Commission staff by December 5, 2005. Finally, comments on the demand response issues addressed in the statute are due by December 19, 2005. These comments will help inform the discussion at the technical conference.

² Energy Policy Act of 2005, Pub. L. 109-58, § 1252(e)(3), 119 Stat. 594, (2005) (EPAct section 1252(e)(3)).

I. Background

2. Section 1252(e)(3) of EPAct 2005 requires the Commission to draft and publish a report, by appropriate region, that assesses demand response resources, including those available from all consumer classes. Specifically, EPAct 2005 requires that the Commission identify and review:

(A) Saturation and penetration rates of advanced meters and communications technologies, devices and systems;

(B) Existing demand response programs and time-based rate programs;

(C) The annual resource contribution of demand resources;

(D) The potential for demand response as a quantifiable, reliable resource for regional planning purposes;

(E) Steps taken to ensure that, in regional transmission planning and operations, demand resources are provided equitable treatment as a quantifiable, reliable resource relative to the resource obligations of any load-serving entity, transmission provider, or transmitting party; and

(F) Regulatory barriers to improved customer participation in demand response, peak reduction and critical period pricing programs.

3. A survey is proposed to obtain the needed information on meter saturation and penetration. With respect to the other issues the Commission must address in the report, input from state regulators and members of the industry will enhance its ability to present a comprehensive and well informed report. To acquire this input, the public is invited to submit comments on the demand response issues addressed by the statute and to participate in a technical conference we will hold to discuss those issues.

A. Voluntary Survey on Saturation and Penetration of Advanced Metering and Demand Response

4. A voluntary survey is proposed on the use of advanced metering and demand response, because adequate information on this subject is not collected by other sources. For instance, the information collected by EIA-861 (Annual Electric Power Industry Report) form administered by the Energy Information Administration (EIA) includes aggregate information on energy efficiency and load management, but does not include any information on advanced metering. In addition, the information on load management collected by EIA does not provide sufficient information to help identify existing demand response programs or time-based rate programs.

5. The Commission will conduct the survey using the Internet. The proposed survey is targeted towards respondents who directly serve end-use customers. Respondents will provide their information for the survey to the Commission on an Internet web-based form and submit their responses electronically directly to the Commission.

6. Because there are no standard industry definitions, Commission staff is uncertain about the best set of questions for obtaining information on the saturation and penetration of advanced metering. For example, given the various types of meters with advanced functionality, it may be difficult to unambiguously define advanced metering. Instead, we propose a survey that asks a series of questions concerning meter functionality. Information on meter functionality will better assist in developing a definition of advanced metering that can be used to accurately estimate regional saturation and penetration of advanced metering. A national survey of advanced metering should also prove useful for planning and benchmarking by market participants.

7. While the focus of the survey is on advanced metering, the proposed survey also contains several questions requesting information on existing demand response and time-based metering programs. These questions are designed to collect program information necessary to obtain information on demand response programs in response to section 1252(e)(3)(B) of EPAct. Furthermore, in recognition that different individuals or departments may be responsible for completing the metering and demand response information, the survey will be implemented as two Web-based forms (one on advanced metering, and one on demand response programs) ³ to ease data entry.

³ Please note that due to the limitations of the Web-based survey tool, the demand response survey includes multiple questions per customer class to accommodate respondents with more than one demand response program per class.

8. The proposed survey is attached to this Notice as an Appendix. The public is requested to comment on the survey questions. In particular, the public should comment on whether the questions will elicit accurate information on advanced meters and demand response programs, or whether the questions should be modified or supplemented to better obtain information. In addition, we solicit input on other sources of information on advanced metering and demand response programs. Comments on the survey are to be filed by December 5, 2005 and should reference this proceeding.

B. Comments and Technical Conference

9. Industry input is also needed in order to gain an objective appraisal of the issues identified in the EPAct 2005, particularly those which require the strategic assessments of businesses, such as the potential for use of demand response as a reliable resource for planning purposes, steps taken to treat demand response equitably in regional transmission planning, and barriers to improved customer participation in demand response programs. Therefore, written comments are requested on the six general topics listed in the EPAct 2005 in accordance with this Notice's Section II, below.

10. In order to provide a forum for discussion of these issues, a technical conference will be held to gather additional data and receive further public comment on the issues we will address in the report. The date of the conference will be announced in a subsequent notice. Those wishing to participate in the conference should contact David Kathan (David.Kathan@ferc.gov or (202) 502-6404) by December 5, 2005 and should reference this proceeding.

11. The conference will be open to the public, and pre-registration to attend is not required.

12. FERC conferences are accessible under section 508 of the Rehabilitation Act of 1973. For accessibility accommodations please send an e-mail to accessibility@ferc.gov or call toll free 1-866-208-3372 (voice) or 202-208-1659 (TTY), or send a FAX to 202-208-2106 with the required accommodations.

II. Comment Subject Areas

13. Commenters may address any of the demand response and time-based rate issues raised and/or identified in EPAct 2005 section 1252(e)(3). Commenters are encouraged, but not required, to consider and address the following questions within each of the six EPAct 2005 issues in their response. Comments on these issues are due by December 19, 2005.

A. Advanced Metering and Communication Systems

• How should the Commission define advanced meters and communication systems for the purpose of reporting to Congress?

• Are advanced meters necessary to implement demand response and time-based rate programs? Can sufficient demand response be fostered from non-communicating, non-hourly meters?

• In general, what are the current saturation and penetration levels of advanced meters?

• Does the implementation of an advanced metering system or use of advanced meters reduce utility costs?

• What level of penetration is needed to achieve cost savings? For example, can advanced meters be used only for certain customer groups or would all customers need to use advanced meters to make their use cost effective?

B. Existing Demand Response and Time-Based Rate Programs

• Describe the type of programs being used and the benefits or detriments of each programmatic approach.

• How have these types of programs changed since the early 1990s?

• Have demand response and time-based rate programs increased or decreased in recent years?

• Are demand response programs implemented by electric utilities available to all customers, or are they targeted to specific customer groups or geographic areas, e.g., load pockets or transmission constrained areas?

C. Annual Resource Contribution ⁴ of Demand Response

⁴ For purposes of this notice and proposed survey, resource contribution is defined as potential peak reduction at time of system peak.

• Describe in general the extent of resource contribution by demand response for the geographic area you serve or represent.

• Identify and describe the best available sources of information on the annual resource contribution made by demand response, by region.

• What problems exist in measuring resource contribution? Should the measurement be on the basis of enrollment or on actual quantities used?

D. Potential for Demand Response as a Quantifiable, Reliable Resource for Regional Planning Purposes

• What percentage of total resource requirements could demand response resources reliably provide?

• What is the current role of demand response resources in meeting regional resource adequacy requirements and ancillary services?

• Explain the risks of relying on demand response for resource adequacy. Do the risks differ depending on the type of demand response?

• What is the potential impact of demand response on overall energy usage?

• Can time-based rate programs or interruptible/curtailment rate programs be counted as capacity resources in regional plans?

E. Equitable Treatment of Demand Response Resources in Regional Transmission Planning and Operations

• What is the status of including demand response within regional transmission planning and operations?

• Have demand response resources been examined during the development of regional transmission plans, and to what extent?

• Do current North American Electric Reliability Council (NERC) standards and regional reliability council rules accommodate the use of demand response as an alternative to building more transmission infrastructure, building generating capacity, or generating/purchasing more power?

• In regional transmission operations, such as RTOs and ISOs, what demand response resources are currently available? Under what circumstances are these resources called upon and at what level (kWs/kWhs)?

F. Regulatory Barriers to Improved Customer Participation in Demand Response, Peak Reduction, and Critical Period Pricing Programs

• What wholesale and retail regulatory barriers exist to improving customer participation in demand response?

• What regulatory barriers exist to improving customer participation in innovative time-based rate programs, such as critical peak pricing?

• What are the drivers and disincentives to customer interest in participating in demand response or critical period pricing programs?

• Do start-up costs limit the number of participants in demand response programs? If so, how should this issue be addressed?

• Does jurisdictional uncertainty between state and federal regulation create barriers to demand response programs?

• Are there regulatory or other barriers to participation of third-party curtailment service providers in ISO/RTO demand response programs? Are current settlement and payment procedures adequate for participation by these third-party entities?

• Given that distribution companies may no longer own generation or be a supplier of last resort, has their incentive to provide demand response been reduced? If so, what alternative mechanisms or policies should be considered to provide incentives to these distribution companies to implement demand response?

• Do current retail rate structures, which are largely based on volumetric rates, create a disincentive for distribution company promotion and implementation of demand response? If they do, how can this disincentive be reduced?

• What are the drivers or disincentives to load-serving entities offering aggressive demand response programs?

III. Information Collection Statement

14. OMB regulations require that OMB approve certain reporting, recordkeeping, and public disclosure (collections of information) imposed by an agency.⁵ Accordingly, pursuant to OMB regulations, notice is given to the public that (1) the voluntary draft survey that is attached as an Appendix to this Notice is proposed to be administered using the Internet and a web-based application to collect the information electronically, and (2) OMB is being asked for review and approval of the final survey under section 3507(d) of the Paperwork Reduction Act of 1995.⁶

⁵ 5 CFR 1320.10 (2005).

⁶ 44 U.S.C. 3507(d) (2005).

15. Comments are requested on the efficacy of the draft survey in the Appendix to this Notice and the accuracy of the estimates made to measure the burden on respondents of completing the survey that are detailed below.

16. This Notice has been submitted to OMB for review and clearance of the Notice's information collection requirements. OMB approval has been requested by December 19, 2005.

Data collection | No. of respondents | No. of responses | Hours per response | Total annual hours
FERC-727, Demand Response and Time Based Rate Programs Survey | 1,500 | 1 | 1 | 3,000
FERC-728, Advanced Metering Survey | 1,500 | 1 | 1 | 3,000
Totals | 3,000 | 2 | 2 | 6,000

17. Total Annual Hours for Collection: The reporting burden for this survey is estimated at 6,000 hours.

18. Information Collection Costs: The surveyed organizations collect all the information requested in FERC-727 and FERC-728 as part of their customary and usual business practices. Comments are requested on the cost of responding to FERC-727 and FERC-728. The average annualized cost for all respondents is projected to be $324,000 (6,000 hours $54 per hour).

19. Title: FERC-727, Demand Response and Time Based Rate Programs Survey and FERC-728, Advanced Metering Survey.

20. Action: Proposed Information Collection. The respondent shall not be penalized for failure to respond to this collection of information unless the collection of information displays a valid OMB control number.

21. Respondents: Business or other for profit, publicly-owned utilities, and electric cooperatives.

22. Frequency of Responses: One-time implementation.

23. Necessity of Information: On August 8, 2005, Congress enacted EPAct 2005. Section 1252(e)(3) of the EPAct 2005 requires the Commission to draft and publish a report, by appropriate region, that assesses demand response resources, including those available from all consumer classes. Commission staff has reviewed public information to determine the availability of saturation and penetration data on advanced metering with the regional specificity required by the EPAct 2005. The review included an assessment of the EIA-861, which collects aggregate information on energy efficiency and load management. The EIA-861 does not include any information on advanced metering. Moreover, there are no publicly available saturation and penetration data on advanced metering at the level required by the EPAct 2005. The Commission is dedicated to establishing clear market rules to govern electric markets. The information collected through this survey will assist the Commission in carrying out its goal of developing robust and efficient energy markets.

24. Internal Review: Internal review at the Commission shows that there is specific, objective support for the burden estimates associated with the information requirements. The Commission will review the data resulting from the survey to ensure that the survey results meet the congressional requirements of the annual report on demand response in EPAct 2005. This conforms to the Commission's plan for efficient information collection, communication, and management within the electric industry.

25. Interested persons may obtain information on the reporting requirements of the survey by contacting the following: Federal Energy Regulatory Commission, 888 First Street, NE., Washington, DC 20426 (Attention: Michael Miller, Office of the Executive Director, 202-502-8415, fax: 202-273-0873, e-mail: Michael.miller@ferc.gov. To submit comments concerning the collection of information and the associated burden estimates including suggestions for reducing this burden, please send your comments to the contact listed above and to the Office of Management and Budget, Room 10202 NEOB, 725 17th Street, NW., Washington, DC 20503 (Attention: Desk Officer for the Federal Energy Regulatory Commission), fax: 202-395-7285, e-mail: oira_submission@omb.eop.gov).

26. The “public protection” provision of the Paperwork Reduction Act ⁷ requires each agency to display a currently valid OMB control number and inform respondents that a response is not required unless the information collection displays a valid OMB control number on each information collection. This provision has two legal effects: (1) It creates a legal responsibility for the agency; and (2) it provides an affirmative legal defense for respondents if the information collection is imposed on respondents by the Commission through regulation or administrative means in order to satisfy a legal authority or responsibility of the Commission. If the Commission should fail to display an OMB control number, then it is the Commission not the respondent who is in violation of the law. “Display” is defined as publishing the OMB control number in regulations, guidelines or other issuances in the Federal Register (for example, in the preamble or regulatory text for the final rule containing the information collection).⁸ Therefore, the Commission may not conduct or sponsor, and a person is not required to respond to a collection of information unless the information collection displays a valid OMB control number.

⁷ 44 U.S.C. 3512(2000); 5 CFR 1320.5(b)(2005); 5 CFR 1320.6(a)(2005).

⁸ See 1 CFR 21.35(2005); 5 CFR 1320.3(f)(3)(2005).

IV. Comment Procedures

27. Interested persons are invited to submit comments on the matters, issues and specific questions in this Notice. Comments should refer to Docket No. AD06-2-000, and include the commenter's name, the organization they represent, if applicable, and their address. Comments may be filed either in electronic or paper format.

28. To facilitate review of the comments, we request commenters to provide an executive summary of their comments. Commenters also are requested to identify each specific question posed in this notice that their discussion addresses and to use appropriate headings. Commenters should identify additional issues they wish to raise separately.

29. Comments regarding the proposed survey are due December 5, 2005.

30. Comments on the proposed technical conference topics are due December 19, 2005.

31. Those considering participating in the technical conference should contact David Kathan within December 5, 2005.

32. All comments related to this proceeding may be filed electronically via the eFiling link on the Commission's Web site at http://www.ferc.gov. The Commission accepts most standard word processing formats and commenters may attach additional files with supporting information in certain other file formats. Commenters filing electronically do not need to make a paper filing. Commenters that are not able to file comments electronically must send an original and 14 copies of their comments to: Federal Energy Regulatory Commission, Office of the Secretary, 888 First Street NE., Washington, DC 20426.

33. All comments will be placed in the Commission's public files and may be viewed, printed, or downloaded remotely as described in the Document Availability section below. Commenters on this proposal are not required to serve copies of their comments on other commenters.

V. Document Availability

34. In addition to publishing the full text of this document in the Federal Register, the Commission provides all interested persons an opportunity to view and/or print the contents of this document via the Internet through the Commission's Home Page (http://www.ferc.gov) and in the Commission's Public Reference Room during normal business hours (8:30 a.m. to 5 p.m. eastern time) at 888 First Street, NE., Room 2A, Washington DC 20426.

35. From the Commission's Home Page on the Internet, this information is available in the Commission's document management system, eLibrary. The full text of this document is available on eLibrary in PDF and Microsoft Word format for viewing, printing, and/or downloading. To access this document in eLibrary, type the docket number excluding the last three digits of this document in the docket number field.

36. User assistance is available for eLibrary and the Commission's Web site during normal business hours. For assistance, please contact the Commission's Online Support at 1-866-208-3676 (toll free) or 202-502-6652 (e-mail at FERCOnlineSupport@ferc.gov), or the Public Reference Room at (202) 502-8371, TTY (202) 502-8659. E-Mail the Public Reference Room at public.referenceroom@ferc.gov.

Magalie R. Salas,
Secretary.

BILLING CODE 6717-01-P

[FR Doc. 05-22295 Filed 11-8-05; 8:45 am]

BILLING CODE 6717-01-C